ENVIRONMENTAL PROTECTION AGENCY

[FRL-6911-1]

Notice of Availability of Guidance for Controlling Nonpoint Source Pollution From Marinas and Recreational Boating and Request for Comments

AGENCY: Environmental Protection Agency (EPA).

ACTION: Notice.

SUMMARY: EPA has developed and is requesting comments on draft technical guidance for managing sources of nonpoint pollution at marinas and recreational boating facilities. This guidance is intended to provide technical assistance to state program managers and others on the best available, economically achievable means of reducing nonpoint pollution of surface and ground water from marinas and recreational boating activity. The guidance provides background information about nonpoint source pollution, where it comes from, and how it enters the nation's waters; discusses the broad concepts of assessing and addressing water quality problems on a watershed level; and presents up-to-date technical information about how to prevent and reduce nonpoint source pollution from marinas and recreational boating.

Reviewers should note that the draft technical guidance is entirely consistent with the Guidance Specifying Management Measures for Sources of Nonpoint Pollution in Coastal Waters, which EPA published in January 1993 under section 6217(g) of the Coastal Zone Act Reauthorization Amendments of 1990 (CZARA). The draft document does not supplant or replace the requirements of the 1993 document. It enhances the technical information contained in the 1993 coastal guidance to include inland as well as coastal context and to provide updated technical information based on current understanding and implementation of best management practices. It does not set new or additional standards for either CZARA section 6217 or Clean Water Act section 319 programs.

EPA will consider comments on this draft guidance and will then publish final guidance.

DATES: Written comments must be postmarked no later than March 5, 2001.

ADDRESSES: Comments may be addressed to Edwin F. Drabkowski, Assessments and Watershed Protection Division (4503-F), U.S. Environmental Protection Agency, 1200 Pennsylvania Avenue, NW., Washington, DC 20460; or electronically mailed to drabkowski.ed@epa.gov.

FOR FURTHER INFORMATION CONTACT: Persons requesting additional information or a complete draft of the document should contact Ed Drabkowski at (202) 260-7009; drabkowski.ed@epa.gov; or the U.S. Environmental Protection Agency (4503-F), 1200 Pennsylvania Avenue, NW., Washington, DC 20460. The complete text of the draft guidance is also available on EPA's Internet site on the Nonpoint Source Control Branch homepage <http://www.epa.gov/owow/nps/new.html>.

SUPPLEMENTARY INFORMATION:

I. Background

In recent years, state, territory, and tribal water quality assessments have identified nonpoint source (NPS) pollution as the most significant cause of degradation in surveyed waters nationwide. In 1987, Congress enacted section 319 of the Clean Water Act to establish a national program to control nonpoint sources of water pollution. Under section 319, states, territories, and tribes address NPS pollution by assessing the NPS pollution problems within the state, territory, or tribal lands, identifying the sources of pollution, and implementing management programs to control the NPS pollution. Section 319 also authorizes EPA to award grants to states and tribes to assist them in implementing management programs which have been approved by EPA. Program implementation includes non-regulatory and regulatory programs, technical assistance, financial assistance, education, training, technology transfer, and demonstration projects. In fiscal year 2000, Congress appropriated and EPA awarded $200 million dollars for nonpoint source management program grants. EPA has awarded a total of $1 billion under section 319 to states, territories, and Indian tribes since 1990.

In 1993, under the authority of section 6217(g) of the Coastal Zone Act Reauthorization Amendments, EPA issued Guidance Specifying Management Measures for Sources of Nonpoint Pollution in Coastal Waters (EPA840-B-92-002). That guidance document details management measures appropriate for the control of five sources of nonpoint pollution in the coastal zone: agriculture, forestry, urban areas, marinas and recreational boating, and hydromodification. The document also includes management measures for wetlands, riparian areas, and vegetated treatment systems, as they are important to the abatement of nonpoint source pollution in coastal waters. State and territory Coastal Nonpoint Pollution Control Programs were required to adopt measures “in conformity” with the coastal management measures guidance.

The 1993 management measures guidance focused on conditions and examples of management measure implementation for the coastal zone. To date, technical guidance on the best available, economically achievable measures for controlling nonpoint sources with a national scope has not been released. The draft national management measures guidance is intended to address this gap. While the practices detailed in the 1993 guidance generally apply to inland waters, EPA has recognized the utility of developing and publishing a technical guidance document that explicitly addresses nonpoint source pollution on a nationwide basis. Moreover, additional data and examples from inland marinas and recreational boating facilities are available to enrich the national guidance. These additional data have helped to prompt the revision and expansion of the marinas and recreational boating chapter of the 1993 guidance.

II. Scope of the Draft Guidance—Sources of Marinas and Recreational Boating Nonpoint Pollution Addressed

The draft technical guidance continues to focus on the most significant potential sources of pollution from marinas and recreational boating which were originally identified in the 1993 coastal guidance by EPA in consultation with a number of other federal agencies and leading national experts, including several experts from national marina associations and state Sea Grant Universities. Specifically, the guidance provides management measures for the following:

1. Marina flushing;

2. Water quality assessment;

3. Habitat assessment;

4. Shoreline stabilization;

5. Storm water runoff;

6. Fueling station design;

7. Petroleum control;

8. Liquid material management;

9. Solid waste management;

10. Fish waste management;

11. Sewage facility management

12. Maintenance of sewage facilities;

13. Boat cleaning;

14. Boat operation; and

15. Public education.

III. Approach Used to Develop Guidance

The draft national management measures guidance is based in large part on the 1993 coastal guidance. The 1993 coastal guidance was developed using a workgroup approach to draw upon technical expertise within other federal agencies as well as state water quality and coastal zone management agencies.

The 1993 text has been expanded to include more information on marinas and recreational boating management practices, including boat launching ramps. The draft guidance also incorporates examples and data from inland marinas in addition to improving the coverage of unique coastal environments. The document expands the information on operations and the costs of management measures at marina facilities.

None of the management measures from the 1993 document has been altered in substance. However, some editing was done on the management measure for shoreline stabilization and the order of some measures were rearranged.

IV. Request for Comments

EPA is soliciting comments on the draft guidance on management measures to control sources of nonpoint pollution at marinas and recreational boating facilities. The Agency is soliciting additional information and supporting data on the measures specified in this guidance and on additional measures that may be as effective or more effective in controlling nonpoint source pollution at marinas and recreational boating facilities.

Dated: November 22, 2000.
J. Charles Fox,
Assistant Administrator, Office of Water.

[FR Doc. 00-30805 Filed 12-1-00; 8:45 am]

BILLING CODE 6560-50-P